DEPARTMENT OF HEALTH AND HUMAN SERVICES

Administration for Children and Families

President's Committee for People With Intellectual Disabilities: Notice of Meeting

AGENCY: President's Committee for People with Intellectual Disabilities (PCPID), ACF, HHS.

ACTION: Notice of meeting.

DATES: The meeting will be held on Thursday, December 8, 2005, from 3 p.m. to 5 p.m. Daylight Savings Time.

ADDRESSES: The conference all may be accessed by dialing, U.S. toll-free 1-888-950-8038, and the passcode “December 05” on the date and time indicated. You may participate in the call in person with staff by reporting to the Aerospace Center Office Building, 901 D Street, SW., Office of Public Affairs Conference Room, 7th Floor West, Washington, DC, no later than 2:45 p.m., Daylight Savings Time. Please bear in mind that space is limited.

SUMMARY: Pursuant to Section 10(a) of the Federal Advisory Committee Act as amended (5 U.S.C. Appendix 2) notice is hereby given that the President's Committee for People with Intellectual Disabilities will hold its third quarterly meeting by telephone conference call to discuss items related to people with intellectual disabilities. The conference call will be open to the public to listen, with call-ins limited to the number of telephone lines available. Individuals who plan to call in and need special assistance, such as TTY, assistive listening devices, or materials in alternative format, should inform Ericka Alston, Executive Assistant, President's Committee for People with Intellectual Disabilities, Telephone—202-619-0634, Fax—202-205-9519, E-mail: ealston@acf.hhs.gov, no later than November 30, 2005. Efforts will be made to meet special requests received after that date, but availability of special needs accommodations to respond to these requests cannot be guaranteed. This notice is being published less than 15 days prior to the conference call due to scheduling problems.

Agenda: The Committee plans to discuss the Social Security Administration's proposed amendments to the Ticket to Work and Self-Sufficiency Program, the Employer Work Incentive Act for Individuals with Severe Disabilities and an update on the Medicaid Commission. The Honorable Martin H. Gerry, Deputy Commissioner, Disability and Income Security Programs, Social Security Administration, and John D. Kemp, attorney and advocate for people with disabilities, will be guest speakers.

FOR FURTHER INFORMATION CONTACT: Contact Sally Atwater, Executive Director, President's Committee for People with Intellectual Disabilities, Aerospace Center Office Building, Suite 701, 901 D Street, SW., Washington, DC 20447, Telephone—(202) 619-0634, Fax—(202) 205-9519, E-mail: satwater@acf.hhs.gov.

SUPPLEMENTARY INFORMATION: The PCPID acts in an advisory capacity to the President and the Secretary of Health and Human Services on a broad range of topics relating to programs, services and supports for persons with intellectual disabilities. The Committee, by Executive Order, is responsible for evaluating the adequacy of current practices in programs, services and supports for persons with intellectual disabilities, and for reviewing legislative proposals that impact the quality of life experienced by citizens with intellectual disabilities and their families.

Dated: November 15, 2005.
Lena Stone,
Program Analyst, President's Committee for People with Intellectual Disabilities.

[FR Doc. 05-23314 Filed 11-25-05; 8:45 am]

BILLING CODE 4184-01-M